DEPARTMENT OF HEALTH AND HUMAN SERVICES

Centers for Disease Control and Prevention

Guide to Community Preventive Services (GCPS) Task Force: Meeting

Name: Task Force on Community Preventive Services

Times and Dates: 8:45 a.m.-5 p.m., October 23, 2002. 8:30 a.m.-3 p.m., October 24, 2002.

Place: The Sheraton Colony Square, 188 14th Street, NE., Atlanta, Georgia 30361, telephone(404) 892-6000.

Status: Open to the public, limited only by the space available.

Purpose: The mission of the Task Force is to develop and publish a Guide to Community Preventive Services, which is based on the best available scientific evidence and current expertise regarding essential public health services and what works in the delivery of those services.

Matters To Be Discussed: Agenda items include: briefings on the administrative information, a clinical guide update, dissemination activities, methods overview, and preliminary findings from the Tobacco Control State Workshops; approved recommendations for the following interventions: Cancer Reminders, Skin Cancer Prevention, Tobacco—School-Based Interventions, and Vaccine Preventable Disease—Methods Introduction and High Risk Adult Vaccinations; and updates on the development of the Improving Pregnancy Outcomes, Mental Health, Nutrition and Violence Prevention Chapters.

Agenda items are subject to change as priorities dictate.

Contact Person for Additional Information: Stephanie Zaza, M.D., Chief, Community Guide Branch, Division of Prevention Research and Analytic Methods, Epidemiology Program Office, CDC, 4770 Buford Highway, M/S K-73, Atlanta, Georgia 30341, telephone 770/488-8189.

Persons interested in reserving a space for this meeting should call 770/488-8189 by close of business on October 18, 2002.

The Director, Management Analysis and Services office has been delegated the authority to sign Federal Register notices pertaining to announcements of meetings and other committee management activities, for both the Centers for Disease Control and Prevention and the Agency for Toxic Substances and Disease Registry.

Dated: October 10, 2002.
Burma Burch,
Acting Director, Management Analysis and Services Office, Centers for Disease Control and Prevention.

[FR Doc. 02-26378 Filed 10-16-02; 8:45 am]

BILLING CODE 4163-18-P